NUCLEAR REGULATORY COMMISSION

Notice of Availability of Model Application Concerning Technical Specification; Improvement To Modify Requirements Regarding Steam Generator Tube Integrity; Using the Consolidated Line Item Improvement Process

AGENCY: Nuclear Regulatory Commission.

ACTION: Notice of availability.

SUMMARY: Notice is hereby given that the staff of the Nuclear Regulatory Commission (NRC) has prepared a model application related to the revision of technical specifications (TS) on steam generator tube integrity for pressurized water reactors (PWRs). The purpose of this model is to permit the NRC to efficiently process amendments that propose to revise TS for steam generator tube integrity. Licensees of nuclear power reactors to which the model applies may request amendments utilizing the model application.

DATES: The NRC staff issued a Federal Register notice (70 FR 10298, March 2, 2005) that provided a model safety evaluation (SE) and a model no significant hazards consideration (NSHC) determination relating to changing TS on steam generator tube integrity for PWRs. The NRC staff hereby announces that the model SE and NSHC determination may be referenced in plant-specific applications to adopt the changes. The staff has posted a model application on the NRC Web site to assist licensees in using the consolidated line item improvement process (CLIIP) to revise the TS on steam generator tube integrity. The NRC staff can most efficiently consider applications based upon the model application if the application is submitted within a year of this Federal Register notice.

FOR FURTHER INFORMATION CONTACT: William Reckley, Mail Stop: O7D1, Division of Licensing Project Management, Office of Nuclear Reactor Regulation, U.S. Nuclear Regulatory Commission, Washington, DC 20555-0001, telephone 301-415-1323.

SUPPLEMENTARY INFORMATION:

Background

Regulatory Issue Summary 2000-06, “Consolidated Line Item Improvement Process for Adopting Standard Technical Specification Changes for Power Reactors,” was issued on March 20, 2000. The CLIIP is intended to improve the efficiency of NRC licensing processes. This is accomplished by processing proposed changes to the standard TS (STS) in a manner that supports subsequent license amendment applications. The CLIIP includes an opportunity for the public to comment on proposed changes to the STS following a preliminary assessment by the NRC staff and finding that the change will likely be offered for adoption by licensees. The CLIIP directs the NRC staff to evaluate any comments received for a proposed change to the STS and to either reconsider the change or to proceed with announcing the availability of the change for proposed adoption by licensees. Those licensees opting to apply for the subject change to TS are responsible for reviewing the staff's evaluation, referencing the applicable technical justifications, and providing any necessary plant-specific information. Each amendment application made in response to the notice of availability will be processed and noticed in accordance with applicable rules and NRC procedures.

This notice involves the revision of limiting conditions for operation and related administrative controls in TS addressing steam generator tube integrity at PWRs. This proposed change was proposed for incorporation into the STS by participants in the Technical Specification Task Force (TSTF) and is designated TSTF-449, Revision 4. TSTF-449 can be viewed on the NRC Web site (http://www.nrc.gov).

Applicability

This proposed change to revise the TS on steam generator tube integrity is applicable to licensees for PWRs who have adopted or will adopt, in conjunction with the proposed change, technical specification requirements for a Bases control program consistent with the TS Bases Control Program described in Section 5.5 of the applicable vendor's STS.

To efficiently process the incoming license amendment applications, the staff requests each licensee applying for the changes addressed by TSTF-449 using the CLIIP to provide the information identified in the model application posted on the NRC Web site.

Public Notices

In a notice in the Federal Register dated March 2, 2005 (70 FR 10298), the staff requested comment on the use of the CLIIP to process requests to revise the TS regarding steam generator tube integrity. In addition, there have been several plant-specific amendment requests to adopt changes similar to those described in TSTF-449 and notices have been published for these applications.

TSTF-449, as well as the NRC staff's safety evaluation and model application, may be examined, and/or copied for a fee, at the NRC's Public Document Room, located at One White Flint North, 11555 Rockville Pike (first floor), Rockville, Maryland. Publicly available records are accessible electronically from the ADAMS Public Library component on the NRC Web site (the Electronic Reading Room).

The staff received one response with comments following the notice published March 2, 2005 (70 FR 10298), soliciting comments on the model SE and NSHC determination related to TSTF-449, Revision 3. The comments were offered by the Nuclear Energy Institute (NEI) in a letter dated April 1, 2005. The NEI comments suggested clarifications and minor corrections to Revision 3 of TSTF-449 and related changes to the staff's model SE. In response to comments, the TSTF submitted Revision 4 to TSTF-449 in its letter dated April 14, 2005. The NRC staff has made only minor changes to the model SE to address editorial issues and to reflect the revision of TSTF-449. The staff finds that the previously published models remain appropriate references (as modified slightly to reflect Revision 4 of TSTF-449) and has chosen not to republish the model SE and model NSHC determination in this notice. As described in the model application prepared by the staff, licensees may reference in their plant-specific applications to adopt TSTF-449, the SE (as revised above), NSHC determination, and environmental assessment previously published in the Federal Register (70 FR 10298; March 2, 2005).

Dated in Rockville, Maryland, this 2nd day of May 2005.
For the Nuclear Regulatory Commission.
Thomas H. Boyce,
Section Chief, Technical Specifications Section, Operating Improvements Branch, Division of Regulatory Improvement Programs, Office of Nuclear Reactor Regulation.

[FR Doc. E5-2208 Filed 5-5-05; 8:45 am]

BILLING CODE 7590-01-P